NATIONAL TRANSPORTATION SAFETY BOARD

Sunshine Act Meeting Notice

Time: 3:15 p.m., Thursday, May 22, 2003.

Place: NTSB Conference Center, 429 L'Enfant Plaza, SW., Washington, DC 20594.

Status: Emergency Board Meeting on less-than-normal notice. The one item is Closed to the Public.

Matter to be Considered:

7555A Opinion and Order: Administrator v. Duchek, Docket SE-16842; disposition of the Administrator's appeal.

FOR FURTHER INFORMATION CONTACT: Vicky D'Onofrio, (202) 314-6410.

Dated: May 22, 2003.
Vicky D'Onofrio,
Federal Register Liaison Officer.

[FR Doc. 03-13438 Filed 5-23-03; 2:15 pm]

BILLING CODE 7533-01-M